DEPARTMENT OF THE INTERIOR

Bureau of Land Management

[L16100000.DP0000.LXSSB0220000.LLCAN06000.223:MO#4500159291]

Notice of Intent To Prepare a Resource Management Plan for the Redding and Arcata Field Offices and an Associated Environmental Impact Statement, California

AGENCY: Bureau of Land Management, Interior.

ACTION: Notice of intent.

SUMMARY: In compliance with the National Environmental Policy Act of 1969, as amended (NEPA), and the Federal Land Policy and Management Act of 1976, as amended (FLPMA), the Bureau of Land Management (BLM) Redding Field Office, Redding, California, and Arcata Field Office, Arcata, California, intend to prepare a Resource Management Plan (RMP) with an associated Environmental Impact Statement (EIS) for the Redding and Arcata Field Offices (called the Northwest California Integrated Resource Management Plan (NCIP)) and by this notice are announcing the beginning of the scoping process to solicit public comments and identify issues, and request identification of potential alternatives, information, and analyses relevant to the proposed action. The BLM is also providing the proposed planning criteria for public review, and is calling for public nominations of Areas of Critical Environmental Concern (ACECs). The RMP will replace the existing Redding RMP (1993) and Arcata Resource Area RMP (1992).

DATES: This notice initiates the 60-day public scoping process for the RMP and associated EIS, for the proposed planning criteria, and for nominations of areas of public land for designation as an ACEC. Comments may be submitted in writing until June 28, 2022. The date(s) and location(s) of any scoping meetings will be announced at least 15 days in advance through local media, newspapers and the BLM website at: https://go.usa.gov/xtDsU. In order to be included in the Draft RMP/EIS, all comments must be received prior to the close of the 60-day scoping period.

ADDRESSES: You may submit comments on issues, potential alternatives, the proposed action, and proposed planning criteria related to Northwest California Integrated Resource Management Plan and nominations of new ACECs by any of the following methods:

• Website: https://go.usa.gov/xtDsU

• Email: BLM_CA_Redding_Arcata_NCIP@blm.gov

• Fax: (530) 224-2172

• Mail: NCIP Comments, Bureau of Land Management, 1695 Heindon Road, Arcata, California 95521-4573

FOR FURTHER INFORMATION CONTACT: Victoria Callahan, Planning and Environmental Specialist, telephone: (707) 825-2315; address Bureau of Land Management, Arcata Field Office, 1695 Heindon Road, Arcata, California 95521-4573; email: vslaughter@blm.gov. Contact Ms. Callahan to add your name to our mailing list.

Individuals in the United States who are deaf, deafblind, hard of hearing, or have a speech disability may dial 711 (TTY, TDD, or TeleBraille) to access telecommunications relay services for contacting Ms. Callahan. Individuals outside the United States should use the relay services offered within their country to make international calls to the point-of-contact in the United States.

SUPPLEMENTARY INFORMATION: This document provides notice that the BLM Redding Field Office and the Arcata Field Office intend to prepare the Northwest California Integrated RMP with an associated EIS, announce the beginning of the scoping process, and seek public input on potential issues, impacts, the possible need for mitigation, and the proposed planning criteria. The planning area is in Del Norte, Humboldt, Mendocino, Trinity, Siskiyou, Shasta, Tehama, and Butte counties, California, and encompasses approximately 382,000 surface acres of public land and approximately 307,000 additional subsurface (mineral) acres. The purpose of the public scoping process is to determine relevant issues that will influence the scope of the environmental analysis, including alternative development, and guide the planning process.

Preliminary Purpose and Need for the RMP Revision

Under Section 202 of FLPMA and its implementing regulations at 43 CFR part 1600, the BLM is authorized to “develop, maintain, and, when appropriate, revise land use plans” (43 United States Code 1712 (a)). In 2009, the Redding and Arcata Field Offices conducted RMP evaluations that determined a need to revise the 1992 Arcata Field Office RMP and the 1993 Redding Field Office RMP given new resource information, changing environmental and social conditions, new technologies, and new Federal mandates. The BLM's preliminary need is to revise the Arcata Field Office and Redding Field Office RMPs to address these developments in relevant science, social trends, and Federal policy. The BLM's preliminary purpose of the NCIP is to provide for management actions and land use decisions within the planning area based on up-to-date information reflecting current public input, changes in policy, resource conditions, and development trends.

Preliminary Issues and Impacts

Preliminary issues for the planning area have been identified by BLM personnel; Federal, State, and local agencies; Native American Tribes; and other stakeholders. These preliminary issues include responding to increasing population and changing use patterns, providing for a broad array of recreation uses, wilderness management, promoting recovery of special status species, developing land tenure patterns and access strategies, responding to increasing wildfires and demand for fuels reduction, and responding to climate change and sea-level rise.

The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan.

The BLM will analyze potential environmental impacts of the BLM's land use decisions considered under the RMP revision, with respect to ongoing regional trends and expected impacts to BLM lands, and will work collaboratively with interested parties to identify the management decisions that best meet local, regional, and national needs and concerns.

Preliminary Alternatives

During the BLM's preliminary alternatives development work, two action alternative themes were identified based on perceived resource use and issues in the planning area. One alternative theme emphasizes resource connectivity and resiliency, while the second emphasizes community access and development. Both alternative concepts manage for multiple use and long-term sustainability and provide for public use and enjoyment of BLM-administered lands. The connectivity and resilience alternative is being developed to manage for multiple use by maintaining corridors of relatively undeveloped area to provide for connectivity of wildlife and fisheries habitat and to serve as a resilient refuge to ongoing development and climate change. This in turn, would provide a recreational and aesthetic resource for public enjoyment. The community access and development alternative also manages for multiple use and public enjoyment but prioritizes public lands to provide for recreational opportunity and access, travel and utility opportunities, and social and economic benefit. These alternatives are to be analyzed against the No Action Alternative (current management) and are preliminary concepts only. They will be refined or combined to provide the best mix to meet the public's needs while complying with the BLM's management responsibilities and regulatory requirements. These preliminary alternatives will be further refined based on public comment, cooperating agency input, and the BLM interdisciplinary team's judgement.

Proposed Planning Criteria

This notice also initiates the public review of proposed planning criteria (43 CFR 1610.4-2(b); 43 CFR 1610.2(f)(2)), available for public review at: https://go.usa.gov/xtDsU. The BLM will use these proposed planning criteria to help guide and define the scope of the RMP.

Anticipated Permits and Authorization

The BLM does not anticipate the need for any permits for authorizations for this RMP revision process.

Schedule for the Decision Making Process

The BLM will provide additional opportunities for public participation consistent with the NEPA and land use planning processes, including a 90-day comment period on the Draft RMP/EIS, a 30-day public protest period, and a 60-day Governor's consistency review on the Proposed RMP. The Draft RMP/EIS is anticipated to be available for public review in late 2022 and the Proposed RMP/Final EIS is anticipated to be available for public protest of the Proposed RMP in mid-2023, with an Approved RMP and Record of Decision in late 2023.

Areas of Critical Environmental Concern

The BLM is also requesting nominations of areas of public land for ACEC designation. To be considered as a potential ACEC, an area must meet the criteria of relevance and importance as established and defined in 43 CFR 1610.7-2. There are currently 17 existing ACECs within the planning area, including: Baker Cypress, Butte Creek, Deer Creek, Forks of the Butte, Gilham Butte, Hawes Corner, Iaqua Butte, Lacks Creek, Ma-le'l Dunes, Sacramento Island, Sacramento River Bend, Shasta and Klamath Rivers Canyon, Swasey Drive, South Fork Eel Watershed (Congressionally designated as Wilderness), Red Mountain (Congressionally designated as Wilderness), Elder Creek Research Natural Area/ACEC (Congressionally designated as Wilderness). Alternatives in the RMP would eliminate three existing ACECs, including South Fork Eel Watershed, Red Mountain, and Elder Creek because they have been congressionally designated as Wilderness. Additionally, 14 new ACECs have been nominated (internally by the BLM or external to the agency) and will be considered as part of this RMP process, including: Swasey Clear Creek Greenway, Upper and Lower Clear Creek, Grass Valley Creek, Sheep Rock, Black Mountain, Upper Klamath River Stateline Archaeological District, Upper Mattole Valley, Eden Valley, Beegum Creek Gorge, North Fork Eel, Willis Ridge, South Spit, Corning Vernal Pools, and North Table Mountain.

The BLM will evaluate these nominated ACECs for consideration in the RMP/EIS. Some existing and nominated ACECs may have different land configurations under different alternatives because of internal and external nominations, an increase or decrease in acres, and the relevance and importance criteria by alternatives. To assist the BLM in evaluating ACEC nominations for consideration in the Draft RMP/EIS, please provide supporting descriptive materials, maps, and evidence of the relevance and importance of resources or hazards by the close of the public comment period in order to facilitate timely evaluation. A detailed list of ACEC nominations, including acreages and importance and relevance values, are available for public review at: https://go.usa.gov/xtDsU.

Public Scoping Process

You may submit comments on issues, potential alternatives, the proposed action, proposed planning criteria, and ACEC designation in writing to the BLM, at any public scoping meeting, and on the virtual open house website: https://www.virtualpublicmeeting.com/ncip-scoping-home, or you may submit them to the BLM using one of the methods listed in the ADDRESSES section earlier. To be considered, comments must be received by the end of the 60-day scoping period. Before including your address, phone number, email address, or other personal identifying information in your comment, you should be aware that your entire comment, including your personal identifying information, may be made publicly available at any time. While you can ask us in your comment to withhold your personal identifying information from public review, we cannot guarantee that we will be able to do so.

The four live virtual public outreach meetings will include an overview presentation, question and answer session, and an opportunity to provide public comment. Each meeting will also feature key resource topics. The first meeting will highlight Forestry, Vegetation, and Fire. The second will focus on biological resources including Fish and Wildlife. The third will discusses Socioeconomics, Environmental Justice, Tribal Interests, and Cultural Resources. The fourth and final meeting will focus on Public Health and Safety, Recreation, Minerals, and Special Designations. In addition to providing an opportunity for the public to submit comments, the virtual open house website will provide an introduction to the NCIP, planning process overview, description of the planning area, and an overview of key resource topics being presented during the public meetings.

Agency Coordination

The BLM will utilize and coordinate the NEPA and land use planning process for this planning effort to help support procedural requirements under the Endangered Species Act (16 U.S.C. 1536), and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Native American Tribes on a government-to-government basis in accordance with Executive Order 13175, BLM MS 1780, and other Departmental policies. Tribal concerns, including impacts on Native American Tribe trust assets and potential impacts to cultural resources, will be given due consideration.

Federal, State, and local agencies, along with Native American Tribes and stakeholders that may be interested in or affected by the proposed action that the BLM is evaluating, are invited to participate in the scoping process and, if eligible, may request or be asked by the BLM to participate in the development of the environmental analysis as a cooperating agency. Cooperating Agencies engaged in the RMP/EIS process thus far include: Bureau of Reclamation, Environmental Protection Agency, National Park Service, U.S. Fish and Wildlife Service, National Marine Fisheries Service, U.S. Forest Service, Blue Lake Rancheria, Redding Rancheria, Mooretown Rancheria, Wiyot Tribe, Hoopa Valley Tribe, Western Area Power Administration, California Department of Fish and Wildlife, California Department of Forestry and Fire Protection, California Department of Conservation, California Geologic Energy Management Division, North Coast Regional Water Quality Control Board, State Water Resources Control Board, Butte County, County of Tehama, Trinity County, Shasta Valley Resource Conservation District, Shasta County Air Quality Management District, and Siskiyou County.

Interdisciplinary Team

The BLM will use an interdisciplinary approach to develop the plan in order to consider the variety of resource issues and concerns identified. Specialists with expertise in the following disciplines will be involved in the planning process: Recreation, Fisheries, Wildlife, Vegetation, Soil, Water, Air Quality, Geology, Minerals, Forestry, Livestock Grazing, Wilderness, Cultural Resources, Tribal Relations, Ecology, Social Sciences, Economics, Wildland Fire, Fuels, and Realty.

Additional Information

The BLM will identify, analyze, and consider mitigation to address the reasonably foreseeable impacts to resources from the proposed plan and all reasonable alternatives and, in accordance with 40 CFR 1502.14(f), include appropriate mitigation measures not already included in the proposed plan or alternatives. Mitigation may include avoidance, minimization, rectification, reduction or elimination over time, and compensation, and may be considered at multiple scales, including the landscape scale.

Responsible Official

The BLM California State Director is the responsible official for decisions made in the Final Northwest California Integrated Resource Management Plan and EIS.

Nature of Decision To Be Made

The nature of the decision to be made will be the State Director's land use planning decisions to manage BLM-administered lands under the principles of multiple use and sustained yield in a manner that best addresses the purpose and need.

(Authority: 40 CFR 1501.7 and 43 CFR 1610.2)

Karen Mouritsen,
BLM California State Director.

[FR Doc. 2022-09064 Filed 4-28-22; 8:45 am]

BILLING CODE 4310-40-P